ENVIRONMENTAL PROTECTION AGENCY

[FRL-8897-9]

Notice of Availability of Draft NPDES General Permits MAG640000 and NHG640000 for Discharges From Potable Water Treatment Facilities in the Commonwealth of Massachusetts (Including Both Commonwealth and Indian Country Lands) and the State of New Hampshire: the Potable Water Treatment Facility General Permit (PWTF GP)

AGENCY: Environmental Protection Agency (EPA).

ACTION: Notice of Availability of Draft NPDES General Permits MAG640000 and NHG640000.

SUMMARY: The Director of the Office of Ecosystem Protection, EPA—New England, is issuing a notice of availability of the draft National Pollutant Discharge Elimination System (NPDES) general permits for potable water treatment facility (PWTF) discharges to certain waters of the Commonwealth of Massachusetts (included both Commonwealth and Indian country lands) and the State of New Hampshire. These General Permits replace the previous PWTF GP, which expired on November 15, 2005.

The draft PWTF GP establishes Notice of Intent (NOI) requirements, effluent limitations, standards, prohibitions, and management practices for facilities with discharges from potable water treatment facilities. Owners and/or operators of these facilities, including those currently authorized to discharge under the expired General Permit, will be required to submit an NOI to be covered by the PWTF GP to both EPA—New England and the appropriate state agency. After EPA and the State have reviewed the NOI, the facility will receive a written notification from EPA of permit coverage and authorization to discharge under the General Permit. The purpose of this document is to solicit public comments on the proposed General Permits.

Public Comment Period: Interested persons may submit written comments on the draft General Permits to the EPA—Region I at the address listed below. Within the comment period, interested persons may also request, in writing, that EPA hold a public hearing pursuant to 40 CFR Section 124.12, concerning the draft General Permits. Such requests shall state the nature of the issues proposed to be raised at the hearing. A public hearing may be held at least thirty days after public notice whenever the Regional Administrator finds that response to this notice indicates significant public interest. In reaching a final decision on this draft permit, the Regional Administrator will respond to all significant comments and make responses available to the public at EPA's Boston office. All comments and requests for public hearings must be postmarked or delivered before midnight May 27, 2009, the close of the public comment period. All public comments or requests for a public hearing must be submitted to the address below.

ADDRESSES: Written comments on the draft General Permit may be hand delivered or mailed to Ms. Sara Green, EPA—Region 1, Office of Ecosystem Protection, CIP, 1 Congress Street, Suite 1100, Boston, Massachusetts 02114-2023, or sent via e-mail to green.sara@epa.gov. No facsimiles (faxes) will be accepted.

FOR FURTHER INFORMATION CONTACT: For further information contact Ms. Green at 617/918-1574, between the hours of 9 a.m. and 5 p.m., Monday through Friday, excluding holidays. The draft General Permits are based on an administrative record available for public review at EPA—Region 1, Office of Ecosystem Protection, 1 Congress Street, Suite 1100, Boston, Massachusetts 02114-2023, Monday- Friday from 9 a.m.-5 p.m. The draft General Permits and a Fact Sheet may also be viewed over the Internet via the EPA—Region 1 Web site. The Fact Sheet and General Permit for dischargers in Massachusetts are at http://www.epa.gov/ne/npdes/mass.html. The Fact Sheet and General Permit for dischargers in New Hampshire are at http://www.epa.gov/ne/npdes/newhampshire.html. To obtain a paper copy of the documents, please contact Ms. Green using the contact information provided above. A reasonable fee may be charged for copying requests.

Dated: April 17, 2009.
Ira Leighton,
Acting Regional Administrator, Region 1.

[FR Doc. E9-9577 Filed 4-24-09; 8:45 am]

BILLING CODE 6560-50-P